DEPARTMENT OF HOUSING AND URBAN DEVELOPMENT

[Docket No. FR-7060-N-04]

60-Day Notice of Proposed Information Collection: Evaluation of Moving to Work Cohort 4 Landlord Incentives, OMB Control No.: 2528-New Collection

AGENCY: Office of the Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES:

Comments Due Date: September 30, 2022.

ADDRESSES: Interested persons are invited to submit comments regarding this proposal. Comments should refer to the proposal by name and/or OMB Control Number and should be sent to: Anna P. Guido, Reports Management Officer, REE, Department of Housing and Urban Development, 451 7th Street SW, Room 8210 Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410-5000; email Anna P. Guido at Anna.P.Guido@hud.gov or telephone 202-402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Evaluation of Moving to Work Cohort 4 Landlord Incentives.

OMB Approval Number: Pending.

Type of Request: New collection.

Form Number: N/A.

Description of the need for the information and proposed use: The Office of Policy Development and Research at the Department of Housing and Urban Development (HUD) is proposing the collection of information for the Evaluation of Moving to Work Cohort 4 Landlord Incentives.

Congress authorized HUD in 2016 to add 100 PHAs to the Moving to Work Demonstration and mandated that HUD use the expansion to test the impact of specific policies intended to improve the efficacy of PHA programs. The Moving to Work Cohort 4 Landlord Incentives will investigate whether offering incentives to landlords to participate in the Housing Choice Voucher (HCV) program will increase the number of participating landlords and improve the lease-up rate of households with a housing choice voucher.

This Federal Register Notice provides an opportunity to comment on the information collection for the Evaluation of Moving to Work Cohort 4 Landlord Incentives.

After OMB approval of the Paperwork Reduction Act package, Abt Associates will conduct the research over a 3-year period, including the following: conduct a baseline web-based survey of sampled PHAs, baseline site interviews with PHA staff, phone interviews with PHA staff, a follow-up web survey with PHA staff, follow-up site visits at PHA locations, and interviews with landlords in sampled cities.

Estimated Number of Respondents: 1,093.

Estimated Time per Response: .75 hours (average).

Frequency of Response: Once annually.

Estimated Total Annual Burden Hours: 301.6.

The average hourly rate for Landlords ($35.20) is based on the average hourly rates for Property, Real Estate, and Community Association Managers (Source: Bureau of Labor Statistics, May 2020 National Occupational Employment and Wage Estimates.) The average hourly rate for PHA staff ($54.96) is based on the average employer costs for State and Local Government employees (Source: Bureau of Labor Statistics, December 2021 Employer Costs for Employee Compensation.)

Respondent's Obligation: Voluntary.

Respondents: Landlords and Property Managers. PHA Staff Members.

Legal Authority: The collection of information is conducted under Title 12, United States Code, Section 1701z and Section 3507 of the Paperwork Reduction Act of 1995, 44, U.S.C., 35, as amended.

Information collection | Number of respondents | Frequency of response | Responses per annum | Burden hours per response | Annual burden hours | Hourly cost per response | Cost
Baseline web survey | 145 | 1 | 48.3 | 0.5 | 24.2 | $54.96 | $1,328.20
Baseline site visit interviews | 116 | 1 | 38.7 | 1 | 38.7 | 54.96 | 2,125.12
Phone interviews | 87 | 1 | 29 | 0.5 | 14.5 | 54.96 | 796.92
Follow-up web survey | 145 | 1 | 48.3 | 0.5 | 24.2 | 54.96 | 1,328.20
Follow-up site visit interviews | 200 | 1 | 66.7 | 1 | 66.7 | 54.96 | 3,664.00
Landlord Interviews | 400 | 1 | 133.3 | 1 | 133.3 | 35.20 | 4,693.33
Total | 1,093 |  | 364.3 |  | 301.6 |  | 13,935.77
Note: Total burden annualized over 3-year period, anticipated November 2022-November 2025.
The average hourly rate for Landlords ($35.20) is based on the average hourly rates for Property, Real Estate, and Community Association Managers (Source: Bureau of Labor Statistics, May 2020 National Occupational Employment and Wage Estimates.)
The average hourly rate for PHA staff ($54.96) is based on the average employer costs for State and Local Government employees (Source: Bureau of Labor Statistics, December 2021 Employer Costs for Employee Compensation.)

B. Solicitation of Public Comment

This notice solicits comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses.

HUD encourages interested parties to submit comment in response to these questions.

C. Authority

Section 3507 of the Paperwork Reduction Act of 1995, 44 U.S.C. chapter 35 and Title 42 U.S.C. 5424 note, title 13 U.S.C. 8(b), and Title 12, U.S.C. section 1701z-1.

Todd M. Richardson,
General Deputy Assistant Secretary for Policy Development and Research.

[FR Doc. 2022-16428 Filed 7-29-22; 8:45 am]

BILLING CODE 4210-67-P